DEPARTMENT OF HEALTH AND HUMAN SERVICES

Office of the National Coordinator for Health Information Technology; HIT Standards Committee Meeting

ACTION: Announcement of meeting.

SUMMARY: This notice announces the first meeting of the HIT Standards Committee in accordance with the Federal Advisory Committee Act (Pub. L. No. 92-463, 5 U.S.C., App.).

DATES: May 15, 2009, from 9 a.m. to 12 p.m. [Eastern]

ADDRESSES: Mary C. Switzer Building (330 C Street, SW., Washington, DC 20201), Conference Room 1114. Please use the C Street entrance closest to 3rd Street and bring photo ID for entry to a Federal building.

FOR FURTHER INFORMATION CONTACT: http://healthit.hhs.gov

SUPPLEMENTARY INFORMATION: This is the inaugural meeting of the HIT Standards Committee. Members will be introduced, and a schedule developed for the assessment of policy recommendations from the HIT Policy Committee. Space is limited, seating on a first-come, first-served basis. The meeting will be available via webcast. Because of initial delays in processing members' nominations, the 15 day deadline for notification was not met.

Judith Sparrow,
Office of Programs and Coordination, Office of the National Coordinator for Health Information Technology.

[FR Doc. E9-10642 Filed 5-4-09; 4:15 pm]

BILLING CODE 4150-45-P